GENERAL SERVICES ADMINISTRATION

[OMB Control No. 3090-0200]

General Services Administration Acquisition Regulation; Information Collection; Sealed Bidding

AGENCY: Office of the Chief Acquisition Officer, GSA.

ACTION: Notice of request for comments regarding a renewal to an existing OMB clearance.

SUMMARY: Under the provisions of the Paperwork Reduction Act of 1995 (44 U.S.C. Chapter 35), the General Services Administration has submitted to the Office of Management and Budget (OMB) a request to review and approve an extension of a currently approved information collection requirement regarding sealed bidding. A request for public comments was published at 72 FR 66176, November 27, 2007. No comments were received. This OMB clearance expires on July 31, 2008.

Public comments are particularly invited on: Whether this collection of information is necessary and whether it will have practical utility; whether our estimate of the public burden of this collection of information is accurate, and based on valid assumptions and methodology; ways to enhance the quality, utility, and clarity of the information to be collected.

DATES: Submit comments on or before: May 15, 2008.

FOR FURTHER INFORMATION CONTACT: Michael Jackson, Procurement Analyst, Contract Policy Division, at telephone (202) 208-4949 or via e-mail to michaelo.jackson@gsa.gov.

ADDRESSES: Submit comments regarding this burden estimate or any other aspect of this collection of information, including suggestions for reducing this burden to Ms. Jasmeet Seehra, GSA Desk Officer, OMB, Room 10236, NEOB, Washington, DC 20503, and a copy to the Regulatory Secretariat (VPR), General Services Administration, Room 4035, 1800 F Street, NW., Washington, DC 20405. Please cite OMB Control No. 3090-0200, Sealed Bidding, in all correspondence.

SUPPLEMENTARY INFORMATION:

A. Purpose

The General Services Administration is requesting that the Office of Management and Budget (OMB) review and approve information collection, 3090-0200, Sealed Bidding. The information requested regarding an offeror's monthly production capability is needed to make progressive awards to ensure coverage of stock items.

B. Annual Reporting Burden

Respondents: 10.

Responses per Respondent: 1.

Hours per Response: .5.

Total Burden Hours: 5.

Obtaining Copies of Proposals: Requesters may obtain a copy of the information collection documents from the General Services Administration, Regulatory Secretariat (VPR), 1800 F Street, NW., Room 4035, Washington, DC 20405, telephone (202) 208-4755. Please cite OMB Control No. 3090-0200, Sealed Bidding, in all correspondence.

Dated: March 25, 2008.
Al Matera,
Director, Acquisition Policy.

[FR Doc. E8-8062 Filed 4-14-08; 8:45 am]

BILLING CODE 6820-61-P